DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605-56606 as amended November 6, 1995; and as last amended at 72 FR 19540-19544, April 18, 2007.)

This notice reflects organizational changes in the Health Resources and Services Administration, Bureau of Primary Health Care (RC). Specifically, this notice updates the mission statement of the Bureau of Primary Health Care (RC) and the functional statement of the Office of the Associate Administrator (RC), and deleted the Office of Administrative Management (RCM).

Chapter RC, Bureau of Primary Health Care

Section RC, 00 Mission

Delete in its entirety and replace with the following:

The mission of the Bureau of Primary Health Care is to improve the health of the Nation's underserved communities and vulnerable populations by assuring access to comprehensive, culturally competent, quality primary health care services.

Section RC-10, Organization

Delete in its entirety and replace with the following:

The Bureau of Primary Health Care (BPHC) is headed by an Associate Administrator, who reports directly to the Administrator, Health Resources and Services Administration. The Bureau of Primary Health Care includes the following components:

(1) Office of the Associate Administrator (RC);

(2) Office of Minority and Special Populations (RCG);

(3) Office of Policy and Program Development (RCH);

(4) Office of Quality and Data (RCK);

(5) Eastern Division (RCN);

(6) Central Mid-Atlantic Division (RCP);

(7) Western Division (RCQ);

(8) Division of National Hansen's Disease Programs (RC7); and

(9) Division Immigration Health Service (RC9).

Section RC-20, Functions

(1) Delete the functional statement for the Office of the Associate Administrator (RC) and replace in its entirety; and (2) Delete the functional statement for the Office of Administrative Management (RCM).

Office of the Associate Administrator (RC)

Provides overall leadership, direction, coordination, and planning in support of Bureau of Primary Health Care programs that are designed to improve the health of the Nation's underserved communities and vulnerable populations by assuring access to comprehensive, culturally competent, quality primary health care services. Specifically, (1) Establishes program goals, objectives and priorities, and provides oversight as to their execution; (2) plans, directs, coordinates and evaluates Bureau-wide management activities; (3) maintains effective relationships within HRSA and with other Department of Health and Human Services (HHS) organizations, other Federal agencies, State and local governments, and other public and private organizations concerned with primary health care, eliminating health disparities, and improving the health status of the Nation's underserved and vulnerable populations; and (4) plans, directs, and coordinates Bureau-wide administrative management activities, i.e., budget, finance, personnel, procurements, delegations of authority, emergency planning, training, executive secretariat, and has responsibilities related to the awarding of BPHC grant and contract funds.

Section RC-30, Delegations of Authority

All delegations of authority and re-delegations of authority made to HRSA officials that were in effect immediately prior to this reorganization, and that are consistent with this reorganization, shall continue in effect pending further re-delegation.

This reorganization is effective upon the date of signature.

Dated: May 15, 2007.
Elizabeth M. Duke,
Administrator.

[FR Doc. E7-9786 Filed 5-21-07; 8:45 am]

BILLING CODE 4165-15-P